NATIONAL SCIENCE FOUNDATION

Advisory Committee for Geosciences; Notice of Meeting

In accordance with the Federal Advisory Committee Act (Pub. L. 92-463, as amended), the National Science Foundation announces the following meeting:

Name: Advisory Committee for Geosciences (1755).

Dates/Times: October 5 & 6, 2005, 9-5:30 p.m., October 7, 2005, 8:30 a.m.-12 noon.

Place: National Science Foundation, 4201 Wilson Boulevard, Room 375, Arlington, VA 22230.

Type of Meeting: Open.

Contact Person: Dr. Thomas Spence, Directorate for Geosciences, National Science Foundation, Suite 705, 4201 Wilson Boulevard, Arlington, Virginia 22230, Phone (703) 292-8500.

Minutes: May be obtained from the contact person listed above.

Purpose of Meeting: To provide advice, recommendations, and oversight concerning support for research, education, and human resources development in the geosciences.

Agenda:

Day 1: Directorate Activities; Subcommittee Meetings.

Day 2: Subcommittee Reports; Directorate Activities.

Day 3: Plans and Activities.

Dated: September 13, 2005.
Susanne Bolton,
Committee Management Officer.

[FR Doc. 05-18464 Filed 9-15-05; 8:45 am]

BILLING CODE 7555-01-M